NATIONAL SCIENCE FOUNDATION

Advisory Committee for Engineering Notice of Meeting

In accordance with the Federal Advisory Committee Act (Pub. L. 92-463, as amended), the National Science Foundation (NSF) announces the following meeting:

Name and Committee Code: Advisory Committee for Engineering #1170.

Date and Time:

April 7, 2020: 8:30 a.m. to 6:00 p.m.;

April 8, 2020: 8:30 a.m. to 1:00 p.m.

Place: National Science Foundation, 2415 Eisenhower Avenue, Room E3450, Alexandria, Virginia 22314.

Type of Meeting: OPEN.

Contact Person: Evette Rollins, National Science Foundation, 2415 Eisenhower Avenue, Suite C14000, Alexandria, Virginia 22314; 703-292-8300.

Purpose of Meeting: To provide advice, recommendations and counsel on major goals and policies pertaining to engineering programs and activities.

Agenda

Tuesday, April 7, 2020

• Directorate for Engineering Report

• NSF Budget Update

• Reports from Advisory Committee Liaisons

• Industries of the Future Session

• Report from Subcommittee on the SBIR/STTR Program

• Translating the Results of University Research Session

• Preparation for Discussion with the Director's Office

Wednesday, April 8, 2020

• Broader Impacts Session

• CBET Committee of Visitors (COV) Report

• Perspectives from the Director's Office

• Roundtable on Strategic Recommendations for ENG

Dated: March 6, 2020.
Crystal Robinson,
Committee Management Officer.

[FR Doc. 2020-05032 Filed 3-11-20; 8:45 am]

BILLING CODE 7555-01-P